DEPARTMENT OF LABOR

Employment and Training Administration

[TA-W-39,100, TA-W-39,100A, and TA-W-38,833]

Paper Converting Machine Company, Green Bay, Wisconsin; Packaging Machine Division, a Paper Converting Machine Company, Green Bay, Wisconsin; O & E Machine Corp. a Paper Converting Machine Company, Green Bay, Wisconsin; Notice of Revised Determination on Reconsideration

By letter of August 23, 2001, the U.A.W., Local 1102 requested administrative reconsideration regarding the Department's Negative Determination Regarding Eligibility to Apply for Worker Adjustment Assistance, applicable to the workers of the subject firm.

The initial investigation resulted in a negative determination issued on July 16, 2001, based on the finding that imports of heavy duty paper converting machinery and parts for the packaging industry did not contribute importantly to worker separations at the subject plan. The denial notice was published in the Federal Register on August 6, 2001 (66 FR 41052).

The union supplied additional information concerning foreign competition impacting the plant workers.

Upon contact with the company it became evident that an affiliated foreign company producing like and directly competitive products as the subject plant increased their shipments of heavy duty paper converting machinery for the packaging industry into the United States.

The O & E Machine Company (a machine shop) and Packaging Machine Division (wrapping and packaging) functions are affiliated divisions of Paper Converting Machine Company, and integrated into the production operations of Paper Converting Machine Company's and therefore included in this decision.

Conclusion

After careful review of the additional facts obtained on reconsideration, I conclude that increased imports of articles like or directly competitive with those produced at Paper Converting Machine Company, Green Bay, Wisconsin (TA-W-39,100) contributed importantly to the declines in sales or production and to the total or partial separation of workers at the subject firm. In accordance with the provisions of the Act, I make the following certification:

All workers of Paper Converting Machine Company, Green Bay, Wisconsin (TA-W-39,100) and Packaging Machine Division, a Division of Paper Converting Machine Company, Green Bay, Wisconsin (TA-W-39,100A) who became totally or partially separated from employment on or after April 4, 2000 through two years from the date of this certification, are eligible to apply for adjustment assistance under section 223 of the Trade Act of 1974.

All workers of O & E Machine Corp., a Division of Paper Converting Machine Company, Green Bay, Wisconsin (TA-W-38,833) who became totally or partially separated from employment on or after February 17, 2000 through two years from the date of this certification, are eligible to apply for adjustment assistance under section 223 of the Trade Act of 1974.

Signed in Washington, DC, this 18th day of January 2002.
Edward A. Tomchick,
Director, Division of Trade Adjustment Assistance.

[FR Doc. 02-2692 Filed 2-4-02; 8:45 am]

BILLING CODE 4510-30-M